NATIONAL AERONAUTICS AND SPACE ADMINISTRATION

[Notice 02-138]

Government-Owned Inventions, Available for Licensing

ACTION: Notice of availability of inventions for licensing.

SUMMARY: The invention listed below is assigned to the National Aeronautics and Space Administration, have been filed in the United States Patent and Trademark Office, and are available for licensing.

DATES: November 12, 2002.

FOR FURTHER INFORMATION CONTACT: James McGroary, Patent Counsel, Marshall Space Flight Center, Code LS01, Huntsville, AL 35812; telephone (256) 544-0013; fax (256) 544-0258.

NASA Case No. MFS-31294-2-CIP2: Aluminum Alloy And Article Cast Therefrom;

NASA Case No. MFS-31557-1: Sensor Instrumented Pin-Tools For Friction Stir Welding;

NASA Case No. MFS-31593-1: Thermal Insulating Coating;

NASA Case No. MFS-31646-1: Liquid Propellant Tracing Impingement Injector

NASA Case No. MFS-31727-1: Pressure Vessel With Impact And Fire Resistant Coating And Method Of Making Same;

NASA Case No. MFS-31761-1: Electro-Mechanical Coaxial Valve;

NASA Case No. MFS-31768-1: Magnetic Symbology Reader;

NASA Case No. MFS-31783-1: Enhanced Airport Luggage Screening System.

Dated: November 4, 2002.
Robert M. Stephens,
Deputy General Counsel.

[FR Doc. 02-28566 Filed 11-8-02; 8:45 am]

BILLING CODE 7510-01-P